ENVIRONMENTAL PROTECTION AGENCY

[FRL-8212-4]

Science Advisory Board Staff Office; Request for Nominations for the Science Advisory Board Asbestos Expert Panel

AGENCY: Environmental Protection Agency (EPA).

ACTION: Notice.

SUMMARY: The EPA Science Advisory Board (SAB) Staff Office announces the formation of a SAB Asbestos Expert Panel and is soliciting nominations for members of the Panel.

DATES: Nominations should be submitted by September 12, 2006 per the instructions below.

FOR FURTHER INFORMATION CONTACT: Members of the public who wish to obtain further information regarding this announcement may contact Ms. Vivian Turner, Designated Federal Officer, by telephone: (202) 343-9697 or E-mail at: turner.vivian@epa.gov. The SAB Mailing address is: U.S. EPA Science Advisory Board (1400F), U.S. Environmental Protection Agency, 1200 Pennsylvania Ave, NW., Washington, DC, 20460. General information about the SAB as well as any updates concerning this request for nominations may be found on the SAB Web site at: http://www.epa.gov/sab.

SUPPLEMENTARY INFORMATION: Asbestos consists of six different fibrous silicate minerals that occur naturally in the environment. In 1986, EPA published an assessment of potential health effects from environmental exposure to asbestos entitled Airborne Asbestos Health Assessment Update (EPA 600/8-84-003F 1986). Data now exist that indicate mineral type and the particle dimension of asbestos fibers may influence the potential risk of lung cancer and mesothelioma. EPA is updating the asbestos health effects assessment on the basis of new information. In particular, EPA's Office of Solid Waste and Emergency Response (OSWER) has developed an approach for the quantification of cancer risk which accounts for different potencies associated with the mineral type and fiber dimensions. OSWER has requested that the Science Advisory Board (SAB) provide technical advice on the proposed methodology to estimate potential cancer risk from inhalation exposure to asbestos.

The SAB is a chartered Federal Advisory Committee, established by 42 U.S.C. 4365, to provide independent scientific and technical advice, consultation, and recommendations to the EPA Administrator on the technical bases for EPA policies and actions. The SAB is forming an expert panel, to provide technical advice to EPA through the chartered SAB regarding the Agency's ongoing work in updating the risk assessment of asbestos. The SAB Asbestos Panel will comply with the provisions of the Federal Advisory Committee Act (FACA) and all appropriate SAB procedural policies.

Request for Nominations: The SAB Staff Office is requesting nominations for nationally and internationally recognized non-EPA scientists with demonstrated clinical, research and applied scientific experience and expertise with respect to human health effects of asbestos and related minerals in the following areas: Clinical and pulmonary medicine, epidemiology, occupational and public health, pathology, inhalation toxicology; biology, mineralogy; environmental fate and transport, environmental sampling and detection methods, biostatistics, statistical modeling and risk assessment.

Process and Deadline for Submitting Nominations: Any interested person or organization may nominate individuals qualified in the areas of expertise described above to serve on the SAB Asbestos Expert Panel. Nominations may be submitted in electronic format through the Form for Nominating Individuals to Panels of the EPA Science Advisory Board which can be accessed through a link on the blue navigational bar on the SAB Web site at: http://www.epa.gov/sab. Please follow the instructions for submitting nominations carefully, and include all of the information requested on that form. The nominating form requests contact information of the person making the nomination; contact information for the nominee; the disciplinary and specific areas of expertise of the nominee; the nominee's curriculum vita; and a biographical sketch of the nominee indicating current position, educational background, research activities, and recent service on other national advisory committees or national professional organizations. Anyone unable to submit nominations using the electronic form, or who may have questions concerning the nomination process or any other aspect of this notice may contact Ms. Vivian Turner, DFO, at the contact information. Nominations should be submitted in time to arrive no later than September 12, 2006.

The process for forming an SAB panel is described in the Overview of the Panel Formation Process at the Environmental Protection Agency, Science Advisory Board (EPA-SAB-EC-COM-02-010), on the SAB Web site at: http://www.epa.gov/sab/pdf/ec02010.pdf. The SAB Staff Office will acknowledge receipt of nominations and inform nominees of the panel for which they have been nominated. From the nominees identified by respondents to this Federal Register notice (termed the “Widecast”), the SAB Staff Office will develop a smaller subset (known as the “Short List”) for more detailed consideration. The Short List will be posted on the SAB Web site at: http://www.epa.gov/sab, and will include the nominee's name and biographical sketch. Public comments on the Short List will be accepted for 21 calendar days. During this comment period, the public will be requested to provide information, analysis or other documentation on nominees that the SAB Staff Office should consider in evaluating candidates for the Panels.

For the SAB, a balanced panel is characterized by inclusion of nominees who possess the necessary domains of knowledge, the relevant scientific perspectives (which, among other factors, can be influenced by work history and affiliation), and the collective breadth of experience to adequately address the charge. Public responses to the Short List will be considered in the selection of the panel members, along with information provided by nominees and information independently gathered by SAB Staff (e.g., financial disclosure information and computer searches to evaluate a nominees prior involvement with the topic under review). Specific criteria to be used in evaluating Short List nominees include: (a) Scientific and/or technical expertise, knowledge, and experience (primary factors); (b) absence of financial conflicts of interest; (c) scientific credibility and impartiality; (d) availability and willingness to serve; and (e) ability to work constructively and effectively on committees.

Short List nominees will be required to fill-out the “Confidential Financial Disclosure Form for Special Government Employees Serving on Federal Advisory Committees at the U.S. Environmental Protection Agency” (EPA Form 3110-48). This confidential form allows Government officials to determine whether there is a statutory conflict between that person's public responsibilities (which includes membership on an EPA Federal advisory committee) and private interests and activities, or the appearance of a lack of impartiality, as defined by Federal regulation. The form may be viewed and downloaded from the following URL address: http://www.epa.gov/sab/pdf/epaform3110-48.pdf.

Dated: August 16, 2006.
Anthony F. Maciorowski,
Associate Director for Science, EPA Science Advisory Board Staff Office.

[FR Doc. E6-13864 Filed 8-21-06; 8:45 am]

BILLING CODE 6560-50-P